ENVIRONMENTAL PROTECTION AGENCY

[FRL-7392-8]

Gulf of Mexico Program Citizens Advisory Committee Meeting

AGENCY: Environmental Protection Agency ( EPA).

ACTION: Notice of meeting.

SUMMARY: Under the Federal Advisory Committee Act (Pub. L. 92-463), EPA gives notice of a meeting of the Gulf of Mexico Program (GMP) Citizens Advisory Committee (CAC).

DATES: The meeting will be held on Wednesday, November 6, 2002, from 1 p.m. to 5 p.m., and on Thursday, November 7, 2002, from 8:30 a.m. to 12 p.m.

ADDRESSES: The meeting will be held at the Bay Tower Hotel and Conference Center, 711 Casino Magic Drive, Bay St. Louis, MS 39520 (1-800-5-MAGIC-5)

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: September 30, 2002.
Gloria D. Car,
Designated Federal Officer.

Gulf of Mexico Program—Citizens Advisory Committee Meeting—Bay Towers Hotel and Conference Center, Bay St. Louis, Mississippi, November 6-7, 2002

Draft Agenda

Wednesday, November 6

11:45-1:00 CAC Members Networking Luncheon (at hotel)

1:00-1:20 p.m. Opening Remarks/Introductions (Jim Kachtick, Chair), Review and approval of November 7-8, 2001 and June 11-13, 2002, Meeting Summaries, Jim Kachtick, Chair

1:20-1:45 Chair Report, Jim Kachtick, Chair

• Follow-up on CAC Action Items

1:45-2:15 GMP Director's Report, Gloria Car, GMPO Associate Director

2:15-2:30 Break

2:30-3:15 Presentation: Dockwatch Update (Jellyfish), Dr. William Graham, Dauphin Island Sea Lab

3:15-5:00 Casino Magic Golf Course Gulf Guardian Award Video Golf Course Tour (tentative)

Evening Dinner Sponsored by Hancock County Board of Supervisors—location to be announced

Thursday, November 7

7:30-8:30 Continental Breakfast

8:30-9:15 CAC Projects Report, Jennyfer Smith, Battelle

• Dockwatch Project

• Coastal Bird Trail

• FFA Environmental Speech Project

• GMP Presentation for CAC Members

• CAC Web Page and Status of Bulletin Board

9:15-9:45 Election of Officers

9:45-10:30 Members Roundtable and Participation Reports

10:30-10:45 Break

10:45-11:30 Presentation on the Gulf Restoration Network, Cynthia Sarthou, Gulf Restoration Network

11:15-11:30 Meeting Calendar for 2003

11:30-12:00 Citizens Advisory Committee Wrap-up

• Discussion and Recommendations

12:00 Adjourn

[FR Doc. 02-25683 Filed 10-8-02; 8:45 am]

BILLING CODE 6560-50-P